DEPARTMENT OF HEALTH AND HUMAN SERVICES

Centers for Disease Control and Prevention

[Program Announcement 00136]

Landmine Survivor Peer Support Networks in Five Mine-Affected Countries; Notice of Availability of Funds

A. Purpose

The Centers for Disease Control and Prevention (CDC) announces the availability of fiscal year (FY) 2000 funds for a cooperative agreement program for “Landmine Survivor Peer Support Networks in Five Mine-Affected Countries'.

B. Eligible Applicant

Assistance will be provided only to Landmine Survivors Network (LSN). No other applications are solicited.

LSN is the most appropriate and qualified organization for conducting activities under this program because:

1. LSN has existing staff, both domestically and internationally, trained in public health and social sciences related to landmine survivors.

2. LSN has a significant global presence, allowing it to coordinate with local governments and international organizations in the implementation of projects related to landmine survivors.

3. LSN has a singularly high level of expertise and experience in working with landmine survivor issues.

4. LSN has an existing field presence including peer support networks in four of the five countries identified in this announcement (Bosnia, Ethiopia, Mozambique and Jordan).

5. LSN has established itself as a leader in the Non-Governmental Organization (NGO) community as a provider of support to individuals, families, and communities injured by landmines, giving it the resources and contacts to implement the program with the support of professional networks in the NGO community.

Note: Public Law 104-65 states that an organization described in section 501(c)(4) of the Internal Revenue Code of 1986 that engages in lobbying activities is not eligible to receive Federal funds constituting an award, grant, cooperative agreement, contract, loan, or any other form.

C. Availability of Funds

Approximately $1,200,000 is available in FY 2000 to fund this award. It is expected that the award will begin on or about September 30, 2000 and will be made for a 12-month budget period within a project period of up to 3 years.

D. Where To Obtain Additional Information

Program technical assistance may be obtained from: Brad Woodruff, International Emergency and Refugee Health Branch, National Center for Environmental Health, Centers for Disease Control and Prevention, 4770 Buford Highway, NE (F-48), Atlanta, GA 30341-3724, Telephone number: 770-488-3523, Email address: baw4@cdc.gov

Business management technical assistance may be obtained from: Mattie Jackson, Grants Management Specialist, Grants Management Branch, Procurement and Grants Office, Centers for Disease Control and Prevention, Room 3000, 2920 Brandywine Road, Atlanta, GA 30341-4146, Telephone number: 770-488-2718, Email address: mij3@cdc.gov

Dated: June 12, 2000.
John L. Williams,
Director, Procurement and Grants Office, Centers for Disease Control and Prevention (CDC).

[FR Doc. 00-15251 Filed 6-15-00; 8:45 am]

BILLING CODE 4163-18-P